AGENCY FOR INTERNATIONAL DEVELOPMENT

USAID Revisions to ADS 201 Evaluation Report Requirements

AGENCY: U.S. Agency for International Development (USAID).

ACTION: Notice of information collection; request for comment.

SUMMARY: The Foreign Assistance Transparency and Accountability Act (2016) and The Foundations for Evidence Based Policy-Making Act (2019) enhance the transparency, accuracy, and reliability of USAID program and activity evaluations and processes of data collection and reporting. To comply with these Acts, USAID is currently revising the policy associated with its Evaluation Report Requirements. The requirements collect information from evaluators to establish the validity of research methodologies, standardize the presentation of research, ensure accuracy, and identify any conflicts of interest that could create bias or influence data analysis, findings, or recommendations. As required by the Paperwork Reduction Act of 1995, as amended, USAID is soliciting comments for this collection.

DATES: USAID intends to issue the policy revisions in mid-2023. Comments are due May 23, 2023.

ADDRESSES: Written comments and recommendations for the proposed information collection should be sent within 60 days of publication of this notice to www.reginfo.gov/public/do/PRAMain. Find this particular information collection by selecting “Currently under 60-day Review—Open for Public Comments” or by using the search function.

FOR FURTHER INFORMATION CONTACT: Tania Alfonso, talfonso@usaid.gov, 202-712-0144.

SUPPLEMENTARY INFORMATION: USAID, in accordance with the Paperwork Reduction Act of 1995 (PRA) (44 U.S.C. 3506(c)(2)(A)), provides the general public and Federal agencies with an opportunity to comment on the proposed survey.

Title of Collection: USAID Revisions to ADS 201 Evaluation Report Requirements.

OMB Control Number: XXXXXX.

Type of Review: A new information collection.

Respondents/Affected Public: USAID evaluation contractors.

Total Estimated Number of Annual Responses: 130.

Total Estimated Number of Annual Burden Hours: 2,730.

Abstract: After a contractor is hired to evaluate a program or activity, USAID issues to the contractor three standardized information collection forms that are designed to ensure compliance with data quality and reporting standards as outlined in USAID's Automated Directives System (ADS) 201 and its annexes, including: one of three optional Evaluation Design Matrices; an Evaluation Report Template to be used for the submission of the final, and; a Disclosure of Conflicts of Interest to be completed by the contractor's team leaders and researchers. The Evaluation Design Matrix provides a structured format for the contractor to present the overall approach and methodology for the contracted evaluation. Specifically, the optional form asks contractors to detail key research questions, sources of information, scope and methodology, and study limitations in the form of a table. The Evaluation Report Template guides the evaluator in submitting a final draft of the research report, including requiring the use of appropriate branding and marking on the cover page, style and formatting of the report, and required information and order of sections. Finally, external evaluators and evaluation team members are required to complete and submit to USAID a Disclosure of Conflicts of Interest form to disclose all relevant facts regarding real or potential conflicts of interest that could lead reasonable third parties with knowledge of the relevant facts and circumstances to conclude that the evaluator or evaluation team member is not able to maintain independence and, thus, is not capable of exercising objective and impartial judgment on all issues associated with conducting and reporting the work. USAID uses the data from the collection of information in these three types of forms for internal decision-making and external reporting requirements to the U.S. Congress. Copies of the information collection forms can be found in USAID's Learning Lab in the Evaluation Toolkit. The data collected in the required forms will be available to the public when the Final Report is posted on the Development Experience Clearinghouse.

USAID and the Office of Management and Budget are particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Tania Alfonso,
PPL/LER, Program Cycle Supervisory Team Lead, USAID.

[FR Doc. 2023-06317 Filed 3-27-23; 8:45 am]

BILLING CODE 6116-01-P